DEPARTMENT OF HEALTH AND HUMAN SERVICES

Centers for Disease Control and Prevention

[Program Announcement 04283]

Partnering With Schools of Public Health to Enhance Public Health Capacity for HIV Prevention and Care Activities in Vietnam; Notice of Intent to Fund Single Eligibility Award

A. Purpose

The Centers for Disease Control and Prevention (CDC) announces the intent to fund fiscal year (FY) 2004 funds for a cooperative agreement program to provide technical and capacity building assistance for HIV prevention and care in Vietnam. This program should involve training and other capacity building that specifically facilitates the implementation, management, monitoring and evaluation of HIV prevention and care activities, using locally appropriate approaches, and should operate in close collaboration with the CDC Global AIDS Program (GAP) Vietnam Office and its collaborators in Vietnam (e.g., Vietnam Ministry of Health). The Catalog of Federal Domestic Assistance number for this program is 93.941.

B. Eligible Applicant

Assistance will be provided only to the Hanoi School of Public Health (HSPH).

The award specifically aims to use existing capacity through Schools of Public Health to aid in providing Vietnam governmental agencies additional capacity/training in public health management, information-technology, monitoring and evaluation, and other surveillance activities. Currently, the HSPH is the single school of public health in Vietnam and thus the only appropriate and qualified organization to conduct this specific set of activities supportive of the CDC/GAP. In addition,

(1) The HSPH is uniquely positioned, in terms of legal authority and credibility among Vietnamese health institutions, to provide technical and capacity building assistance in the areas of public health informatics and sustainable management development for public health programs.

(2) The HSPH already has established mechanisms to access public health informatics and sustainable management development information, enabling it to immediately become engaged in the activities listed in this announcement.

(3) The purpose of this announcement is to build upon the existing framework of health information and activities that the HSPH itself has collected or initiated.

(4) The HSPH is organizationally within the MOH and can effectively coordinate and implement HIV prevention and care activities supported by MOH and its other agencies. Although other Vietnam government ministries are involved in HIV prevention and care, currently most activities occur out of MOH.

Cost Sharing or Matching

Matching funds are not required for this program.

C. Funding

Approximately $200,000 is available in FY 2004 to fund this award. It is expected that the award will begin on or before September 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146. Telephone: 770-488-2700.

For technical questions about this program, contact: S. Patrick Chong, Deputy Director, Global AIDS Program [GAP], Vietnam, National Center for HIV, STD and TB Prevention, Centers for Disease Control and Prevention [CDC], US Embassy Hanoi, 7 Lang Ha, Hanoi, Vietnam. Telephone: +84 (4) 831-4580, ext. 215. E-mail: pchong@cdc.gov.

Dated: July 16, 2004.
William P. Nichols,
Acting Director, Procurement and Grants Office, Centers for Disease Control and Prevention.

[FR Doc. 04-16809 Filed 7-22-04; 8:45 am]

BILLING CODE 4163-18-P